DEPARTMENT OF TRANSPORTATION

Bureau of Transportation Statistics

[Docket BTS-2001-10909]

Notice of Request To Renew the Approval of Information Collections: OMB No. 2139-0002 and 2139-0004 (Financial and Operating Statistics for Motor Carriers of Property)

AGENCY: Bureau of Transportation Statistics (BTS), DOT.

ACTION: Notice and request for comments.

OMB Control Numbers: 2139-0002 (Form QFR) and 2139-0004 (Form M).

SUMMARY: This notice announces that the Bureau of Transportation Statistics (BTS) intends to request the Office of Management and Budget (OMB) to renew approval for two information collections, the Quarterly Report of Class I Motor Carriers of Property (Form QFR) and Annual Report of Class I and Class II Motor Carriers of Property, (Form M). The information collections are necessary to ensure that motor carriers comply with financial and operating statistics requirements as prescribed in the BTS regulations(49 CFR 1420). This notice is required by the Paperwork Reduction Act.

DATES: January 4, 2002.

ADDRESSES: Mail or hand deliver comments to the U.S. Department of Transportation, Dockets Management System (DMS). You may submit your comments by mail or in person to the Docket Clerk, Docket No. BTS-2001-10909, U.S. Department of Transportation, 400 Seventh Street, SW., Room PL-401, Washington, DC 20590-0001. The DMS is open for examination and copying, at the above address, from 9 a.m. to 5 p.m., Monday through Friday, except federal holidays.

If you wish to file comments using the Internet, you may use the DOT DMS website at http://dmses.dot.gov. Please follow the online instructions for submitting an electronic comment. Comments should identify the docket number and be submitted in duplicate. If you would like the Department to acknowledge receipt of your comment, you must submit a self-addressed stamped postcard on which the following statement is made: Comments on Docket BTS-2001-10909. The Docket Clerk will date stamp the postcard prior to returning it to you via the U.S. mail.

FOR FURTHER INFORMATION CONTACT: Paula R. Robinson, Compliance Program Manager, K-27, Bureau of Transportation Statistics, 400 Seventh Street, SW., Washington, DC 20590; (202) 366-2984; Fax: (202) 366-3364; e-mail: paula.robinson@bts.gov.

SUPPLEMENTARY INFORMATION:

I. The Data Collection

The Paperwork Reduction Act of 1995 (44 U.S.C. Chapter 35; as amended) and 5 CFR part 1320 require each Federal agency to obtain an OMB approval to continue an information collection activity for which the agency received prior approval. BTS is seeking OMB approval for the following two BTS information collection activities whose prior OMB approvals are near the expiration date:

(1) Title: Quarterly Report of Class I Motor Carriers of Property. OMB Control No. 2139-0002.

Form No.: BTS Form QFR.

Type of Review: Extension of a currently approved collection.

Respondents: Class I Motor Carriers of Property.

Number of Respondents: 1,000 (per quarter).

Estimated Time Per Response: 1.8 hours (27 minutes per quarter).

Expiration Date: March 31, 2002.

Frequency: Quarterly.

Total Annual Burden: 1,800 hours.

(2) Title: Annual Report of Class I and Class II Motor Carriers of Property. OMB Control No. 2139-0004.

Form No.: BTS Form M.

Type of Review: Extension of a currently approved collection.

Respondents: Class I and Class II Motor Carriers of Property.

Number of Respondents: 3,000 (per year).

Estimated Time Per Response: 9 hours.

Expiration Date: March 31, 2002.

Frequency: Annually.

Total Annual Burden: 27,000 hours.

Background

The Quarterly Report of Class I Motor Carriers of Property (Form QFR) and Annual Report of Class I and Class II Motor Carriers of Property (Form M) are mandated reporting requirements for for-hire motor carriers. Motor carriers required to comply with the BTS regulations are classified on the basis of their annual gross carrier operating revenues (including interstate and intrastate). Under the financial and operating statistics (F&OS) program the BTS collects balance sheet and income statement data along with information on tonnage, mileage, employees, transportation equipment, and other related data. The data and information collected is made publicly available and used by the BTS to determine a motor carrier's compliance with the F&OS program requirements prescribed in the BTS regulations (49 CFR 1420). The regulations were formerly administered by Interstate Commerce Commission (ICC) and later transferred to the U.S. Department of Transportation on January 1, 1996, by the ICC Termination Act of 1995 (the Act), Public Law 104-88, 109 Stat. 803 (1995) (codified at 49 U.S.C. 14123).

II. Request for Comments

BTS requests comments on any aspects of these information collections, including (1) The accuracy of the estimated burden; (2) ways to enhance the quality, usefulness, and clarity of the collected information; and (3) ways to minimize the collection burden without reducing the quality of the information collected including additional use of automated collection techniques or other forms of information technology.

Electronic Access and Filing

You may submit or retrieve comments online through the Docket Management System (DMS) at http://dmses.dot.gov. Please include the docket number appearing in the heading of this document. Acceptable formats include: MS Word (Versions 95 to 97), MS Word for Mac (Versions 6 to 8), Rich Text File (RTF), American Standard Code Information Interchange (ASCII)(TXT), Portable Document Format (PDF), and WordPerfect (Versions 7 to 8). The DMS is available 24 hours each day, 365 days each year. Electronic submission and retrieval help and guidelines are available under the help section of the web site. You may also download an electronic copy of this document from the DOT Docket Management System on the Internet at http://dmses.dot.gov.

Issued in Washington, DC.
Russell B. Capelle, Jr.,
Assistant BTS Director for Motor Carrier Information, Department of Transportation.

[FR Doc. 01-27736 Filed 11-2-01; 8:45 am]

BILLING CODE 4910-FE-P